NEIGHBORHOOD REINVESTMENT CORPORATION

Regular Meeting of the Board of Directors

TIME AND DATE: 2:00 p.m., Wednesday, August 23, 2000.

PLACE: Neighborhood Reinvestment Corporation, 1325 G Street, NW., Suite 800, Board Room, Washington, DC 20005.

STATUS: Open/Closed.

CONTACT PERSON FOR MORE INFORMATION: Jeffrey T. Bryson, General Counsel/Secretary, 202-220-2372.

AGENDA:

I. Call to Order

II. Approval of Minutes: May 22, 2000, Annual Meeting

III. Budget Committee Report: July 14, 2000, Meeting

IV. Treasurer's Report

V. Executive Director's Quarterly Management Report

VI. Personnel Issues (Closed)

VII. Adjournment

Jeffrey T. Bryson,
General Counsel/Secretary.

[FR Doc. 00-20607 Filed 8-9-00; 3:35 pm]

BILLING CODE 7570-01-M